DEPARTMENT OF COMMERCE

National Oceanic and Atmospheric Administration

50 CFR Part 300

[Docket No. 080310411-8949-02]

RIN 0648-AU14

Pacific Halibut Fisheries; Subsistence Fishing; Correction

AGENCY: National Marine Fisheries Service (NMFS), National Oceanic and Atmospheric Administration (NOAA), Commerce.

ACTION: Final rule; correction.

SUMMARY: This document corrects a final rule published in the Federal Register on September 24, 2008, amending the subsistence fishery rules for Pacific halibut. This correcting amendment corrects the headings in two tables.

DATES: Effective on October 24, 2008.

FOR FURTHER INFORMATION CONTACT: Becky Carls, 907-586-7228.

SUPPLEMENTARY INFORMATION: The final rule that is the subject of these corrections was published on September 24, 2008 (73 FR 54932), and implemented amendments to the subsistence fishery rules for Pacific halibut in waters in and off Alaska.

Need for Corrections

The regulations at § 300.65 provide for a catch sharing plan and for domestic management measures for Pacific halibut fisheries in waters in and off Alaska. Among other regulatory actions, the final rule converted the gear and harvest restrictions from text to table format. This action amends § 300.65(h)(1)(i) table heading by replacing “Retention limits” with “Gear restrictions” and amends § 300.65(h)(2) table heading by replacing “Gear restrictions” with “Retention limits.”

Classification

Pursuant to 5 U.S.C. 553(b)(B), the Assistant Administrator of Fisheries finds good cause to waive prior notice and opportunity for public comment otherwise required by the section. NOAA finds that prior notice and opportunity for public comment are unnecessary because the editorial changes made by this rule are non-substantive. The need to immediately correct the published headings for two in-text tables for this regulation will eliminate a potential source of confusion and constitutes good cause to waive the requirement to provide prior notice and opportunity for public comment, as such procedures would be unnecessary and contrary to the public interest. Notice and comment is unnecessary because this action makes only minor, non-substantive changes to 50 CFR 300.65 to correct the headings of two tables. The rule does not make any substantive change in the rights and obligations of subsistence fishermen managed under the subsistence halibut regulations. No aspect of this action is controversial and no change in operating practices in the fishery is required.

Because prior notice and opportunity for public comment are not required for this rule by 5 U.S.C. 553, or any other law, the analytical requirements of the Regulatory Flexibility Act, 5 U.S.C. 601 et seq., are inapplicable.

Correction

Accordingly, the final rule, FR Doc. E8-22411, published on September 24, 2008, at 73 FR 54932, to be effective October 24, 2008, is corrected as follows:

1a. In § 300.65, on pages 54940 and 54941, the headings to the table under paragraph (h)(1)(i) are corrected to read as follows:

§ 300.65 Catch sharing plan and domestic management measures in waters in and off Alaska.

(h) * * *

(1) * * *

(i) * * *

Regulatory Area | Permit Type | Gear Restrictions
* * * * * * * |  |

1b. In § 300.65, on pages 54941 and 54942, the headings to the table under paragraph (h)(2) are corrected to read as follows:

§ 300.65 Catch sharing plan and domestic management measures in waters in and off Alaska.

(h) * * *

(2) * * *

Regulatory Area | Permit Type | Retention Limits
* * * * * * * |  |

Dated: October 15, 2008.
Samuel D. Rauch III,
Deputy Assistant Administrator for Regulatory Programs, National Marine Fisheries Service.

[FR Doc. E8-25021 Filed 10-20-08; 8:45 am]

BILLING CODE 3510-22-S